DEPARTMENT OF THE INTERIOR

National Park Service

[NPS-WASO-NAGPRA-NPS0037638; PPWOCRADN0-PCU00RP14.R50000]

Notice of Intended Repatriation: Gilcrease Museum, Tulsa, OK

AGENCY: National Park Service, Interior.

ACTION: Notice.

SUMMARY: In accordance with the Native American Graves Protection and Repatriation Act (NAGPRA), the Gilcrease Museum intends to repatriate certain cultural items that meet the definition of unassociated funerary objects and/or objects of cultural patrimony and that have a cultural affiliation with the Indian Tribes or Native Hawaiian organizations in this notice.

DATES: Repatriation of the cultural items in this notice may occur on or after April 25, 2024.

ADDRESSES: Laura Bryant, Gilcrease Museum, 800 S. Tucker Drive, Tulsa, OK 74104, telephone (918) 596-2747, email laura-bryant@utulsa.edu.

SUPPLEMENTARY INFORMATION: This notice is published as part of the National Park Service's administrative responsibilities under NAGPRA. The determinations in this notice are the sole responsibility of the Gilcrease Museum, and additional information on the determinations in this notice, including the results of consultation, can be found in the summary or related records. The National Park Service is not responsible for the determinations in this notice.

Abstract of Information Available

One cultural item has been requested for repatriation. The one object of cultural patrimony is a basket. The basket was collected from southern California in the early 20th century by Bob Lengacher's aunt. Lengacher donated his collection to Gilcrease Museum in 1995.

The items listed below from Los Angeles, Santa Barbara, and Ventura Counties were collected by Earl Stendahl, who owned a gallery in Los Angeles. In 1950 the item was then sold to Thomas Gilcrease, who transferred his collection to the City of Tulsa in 1955.

A total of 12 cultural items have been requested for repatriation. The 12 lots of unassociated funerary objects/objects of cultural patrimony are pipes and a mortar. These cultural items were removed from Point Dume, Ramirez Canyon, and Solstice Canyon sites in Los Angeles County, CA in the early to mid-20th century.

A total of 41 cultural items have been requested for repatriation. The 41 lots of unassociated funerary objects/objects of cultural patrimony are glass and shell beads, stone beads, inlaid and plain stone vessels, plain and effigy stone pipes, ornaments (including ring, bracelet, and hair decorations), a stone seal effigy, stone hooks, and stone tools. These cultural items were removed from Dos Pueblos, Goleta Slough, and San Miguel Island sites in Santa Barbara County, CA in the early to mid-20th century.

A total of 11 cultural items have been requested for repatriation. The 11 lots of unassociated funerary objects/objects of cultural patrimony are stone and glass beads, a stone effigy bowl, animal effigies, and inlaid stone miniature canoes. These cultural items were removed from Arroyo Sequit and areas around Malibu in Venture County, CA.

A total of 535 cultural items have been requested for repatriation. The 535 lots of unassociated funerary objects/objects of cultural patrimony are stone and shell beads, trade beads, plain and effigy stone pipes, plain and inlaid stone effigies, stone tools, ornaments (including for hair and ears), stone bowls, arrow straighteners, pendants, shell gorgets, fish hooks, and a whistle. These were collected from coastal southern California by the above-mentioned Earl Stendahl.

A total of four cultural items have been requested for repatriation. The four lots of unassociated funerary objects/objects of cultural patrimony are stone and glass beads. These were collected from coastal southern California by Frank Engles, and then sold to Thomas Gilcrease through Earl Stendahl in 1950.

A total of 279 cultural items have been requested for repatriation. The 279 lots of unassociated funerary objects/objects of cultural patrimony are shells, marine animal fragments (including coral), fish hooks, shell and stone beads and discs, faunal bone tools, stone tools, shell pendants, faunal remains, petrified wood, and mortars. These were collected from coastal southern California and donated to Gilcrease Museum in 1982 by Gary Busby.

A total of two cultural items have been requested for repatriation. The two lots of unassociated funerary objects/objects of cultural patrimony are stone beads and a stone bowl. These were collected from Los Angeles County, CA and donated to Gilcrease Museum in 1986 by Dr. Norman Westermann.

A total of three cultural items have been requested for repatriation. The three lots of unassociated funerary objects/objects of cultural patrimony are shell masks. These were collected from coastal southern California and purchased from Willis Tilton and by Thomas Gilcrease in the 1950s.

A total of 172 cultural items have been requested for repatriation. The 172 lots of unassociated funerary objects/objects of cultural patrimony are shell and stone animal effigies, shell pendants, trade beads, shell and stone beads, stone pestles and mortars, plain and effigy stone pipes, gorgets, stone tools and flakes, fish hooks, and stone bowls. These were collected from coastal southern California and acquired by Gilcrease Museum likely in the mid-20th century.

Determinations

The Gilcrease Museum has determined that:

• The 1,059 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 1,060 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Santa Ynez Band of Chumash Mission Indians of the Santa Ynez Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 25, 2024. If competing requests for repatriation are received, the Gilcrease Museum must determine the most appropriate requestor prior to repatriation. Requests for joint repatriation of the cultural items are considered a single request and not competing requests. The Gilcrease Museum is responsible for sending a copy of this notice to the Indian Tribes and Native Hawaiian organizations identified in this notice and to any other consulting parties.

Authority: Native American Graves Protection and Repatriation Act, 25 U.S.C. 3004 and the implementing regulations, 43 CFR 10.9.

Dated: March 15, 2024.
Melanie O'Brien,
Manager, National NAGPRA Program.

[FR Doc. 2024-06279 Filed 3-25-24; 8:45 am]

BILLING CODE 4312-52-P